DEFENSE NUCLEAR FACILITIES SAFETY BOARD

Sunshine Act Meetings

TIME AND DATE: 1:00 p.m., December 18, 2020.

PLACE: This meeting will be held via teleconference.

STATUS: Closed. The Board invoked the exemption described in 5 U.S.C. 552b(c)(2) and 10 CFR 1704.4(b). The Board determined that it is necessary to close this meeting to the public since an open meeting would likely disclose information related solely to the internal personnel rules and practices of the agency.

MATTERS TO BE CONSIDERED: At this meeting, members of the Board will receive a staff briefing and deliberate on appropriate agency reorganization to accommodate the Executive Director of Operations position.

CONTACT PERSON FOR MORE INFORMATION: Tara Tadlock, Director of Board Operations, Defense Nuclear Facilities Safety Board, 625 Indiana Avenue NW, Suite 700, Washington, DC 20004-2901, (800) 788-4016. This is a toll-free number.

Dated: December 16, 2020.
Thomas Summers,
Acting Chairman.

[FR Doc. 2020-28135 Filed 12-16-20; 4:15 pm]

BILLING CODE 3670-01-P